DEPARTMENT OF TRANSPORTATION

Federal Aviation Administration

14 CFR Part 39

[Docket No. 2002-SW-01-AD; Amendment 39-13216; AD 2003-13-14]

RIN 2120-AA64

Airworthiness Directives; Bell Helicopter Textron Canada Model 206A, 206A-1, 206B, 206B-1, 206L, 206L-1, 206L-3, and 206L-4 Helicopters

AGENCY: Federal Aviation Administration, DOT.

ACTION: Final rule.

SUMMARY: This amendment adopts a new airworthiness directive (AD) for the specified Bell Helicopter Textron Canada (BHTC) model helicopters that requires performing a continuity test, temporarily repairing any unairworthy chip detector, and replacing any repaired chip detectors. This amendment is prompted by reports of poor or no continuity between the insert and the chip detector housing on certain chip detectors. The actions specified by this AD are intended to prevent failure of a chip detector indication, loss of a critical component, and subsequent loss of control of the helicopter.

DATES: Effective August 12, 2003.

The incorporation by reference of certain publications listed in the regulations is approved by the Director of the Federal Register as of August 12, 2003.

ADDRESSES: The service information referenced in this AD may be obtained from Bell Helicopter Textron Canada, 12,800 Rue de l'Avenir, Mirabel, Quebec J7J1R4, telephone (450) 437-2862 or (800) 363-8023, fax (450) 433-0272. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Jorge Castillo, Aviation Safety Engineer, FAA, Rotorcraft Directorate, Regulations and Guidance Group, Fort Worth, Texas 76193-0110, telephone (817) 222-5127, fax (817) 222-5961.

SUPPLEMENTARY INFORMATION: A proposal to amend 14 CFR part 39 to include an AD for the specified model helicopters was published in the Federal Register on October 21, 2002 (67 FR 64571). That action proposed to require performing a continuity test; repairing temporarily the chip detectors, part number (P/N) B3188B and B4093, installed in the transmission bottom and upper case, found on certain transmission assemblies; and replacing repaired chip detectors.

Transport Canada, the airworthiness authority for Canada, notified the FAA that an unsafe condition may exist on BHTC Model 206A, 206A-1, 206B, 206B-1, 206L, 206L-1, 206L-3, and 206L-4 helicopters. Transport Canada advises that Tedeco B3188B and B4093 chip detectors could possibly have poor or no continuity between the insert and the chip detector housing. This could result in no chip indication when the chip detector has been bridged by metal particles.

BHTC has issued Alert Service Bulletin (ASB) No. 206-01-96, Revision A, and No. 206L-01-119, Revision A, both dated May 7, 2001, which specify accomplishing the Eaton Tedeco Product Bulletins attached to their Alert Service Bulletin. The Eaton Tedeco Product Bulletins contain procedures for performing a continuity test, repairing chip detectors, and replacing repaired chip detectors. Transport Canada classified these ASBs as mandatory and issued AD No. CF-2001-33, dated August 24, 2001, to ensure the continued airworthiness of these helicopters in Canada.

Interested persons have been afforded an opportunity to participate in the making of this amendment. Due consideration has been given to the comments received from two commenters.

The two commenters state that the cost of the chip detector that was stated in the proposal ($75) was incorrect. They estimate the correct cost of the B3188B chip detector to be $308 and the cost of the B4093 chip detector to be $378. Therefore, one of these commenters states that the estimated impact is more likely to be $455,795. Further, that same commenter states that he feels that this increased cost will result in this AD having a significant economic impact on a substantial number of small entities unless the manufacturer provides the parts at no cost or at a significantly reduced cost. We agree that the cost of the chip detectors was incorrectly stated in the proposal and that the actual cost of the chip detectors is approximately the unit costs provided by the commenters. We have revised our economic analysis accordingly using an approximate average cost of $350 per chip detector. Using this revised parts' cost, the total estimated cost impact of this AD increases from $186,615 ($30 (labor) per helicopter for 1,131 helicopters, plus $135 ($75 parts and $60 labor) per helicopter for the other 1,131 helicopters) to $497,640 ($30 (labor) per helicopter for 1,131 helicopters plus $410 ($350 parts and $60 labor) per helicopter for the other 1,131 helicopters). While the AD may affect a substantial number of small entities, we believe that neither the original estimated cost per helicopter of either $30 or $135, as applicable, nor this revised estimated cost per helicopter of either $30 of $410, as applicable, will have a significant economic impact on any small entity.

One commenter questions why the proposed AD did not propose to require a repetitive inspection to preclude failure of a chip detector subsequent to it passing the inspection contained in the proposed AD. We do not agree that repetitive inspections are necessary. The inspection that is required is intended to provide a means to identify an unairworthy chip detector installed on a helicopter. Once identified, the proposal specified a temporary repair for the chip detector until it could be replaced with an airworthy part. While it is true that a chip detector could fail after successfully passing the proposed inspection, the causes for potential subsequent failures are not necessarily attributable to the design deficiency addressed by the proposed AD. Accordingly, no change is made to this AD based on this comment.

One commenter believes that more than 50 percent of the currently installed chip detectors may be faulty, which would increase the estimated cost impact of the AD. The commenter states that the AD is not warranted unless airworthiness data were presented to the FAA showing that the manufacturer's previously issued ASBs have not been effective in correcting the problem.

Both commenters state their concerns about the availability of an adequate inventory of chip detectors to replace all unairworthy chip detectors that may be discovered during the inspections required by the AD. The FAA does not agree. We consider our estimate that half of the fleet inspections will result in detection of an unairworthy chip detector to be a conservative estimate. That number may be reduced since some chip detectors have already been replaced due to the release of BHTC's ASBs. Since compliance with an ASB is not universally mandatory, this AD is being issued to mandate testing, repairing (if necessary), and replacing chip detectors for the operators that have not been required to comply with the ASB. We believe this AD provides a reasonable method for identifying the total number of existing unairworthy chip detectors, a temporary repair procedure that allows chip detectors to be made functional, and a requirement to replace all chip detectors after 300 hours time-in-service (TIS).

Further, one commenter states that the FAA should take the lead in negotiating a firm replacement agreement with the manufacturer since the proposed AD states that Tedeco/Bell “may” provide replacements at “no charge.” We do not agree. Negotiating warranty coverage between operators and manufacturers is not a proper role for the FAA. However, we are required to assess the economic impact of our regulation and we have appropriately addressed that issue previously in our discussion of the costs impact of this AD.

After careful review of the available data, including the comments noted above, we have determined that air safety and the public interest require the adoption of the rule with the changes described previously, and that these changes will not increase the scope of the AD.

On July 10, 2002, we issued a new version of 14 CFR part 39 (67 FR 47997, July 22, 2002), which governs the FAA's AD system. This regulation now includes material that relates to special flight permits, alternative methods of compliance, and altered products. However, for clarity and consistency in this final rule, we have retained the language of the NPRM regarding that material.

The FAA estimates that this AD will affect 2,262 helicopters of U.S. registry, and the required actions will take approximately 0.5 work hours per helicopter to initially inspect the chip detectors, and 0.5 work hours per helicopter to repair and ultimately replace any chip detectors that were previously temporarily repaired. The average labor rate is $60 per work hour. Required parts will cost approximately $350 per chip detector. Based on these figures, we estimate the total cost impact of the AD on U.S. operators to be $497,640, assuming half of the fleet will require repairing and replacing the chip detectors. The chip detector manufacturer has stated that it may provide reworked or replacement parts at no charge at its discretion.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-13-14 Bell Helicopter Textron Canada: Amendment 39-13216. Docket No. 2002-SW-01-AD.

Applicability: Model 206A, 206A-1, 206B, 206B-1, 206L, 206L-1, 206L-3, and 206L-4 helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required as indicated, unless accomplished previously.

To prevent failure of a chip detector indication, loss of a critical component, and subsequent loss of control of the helicopter, accomplish the following:

(a) For Model 206A, 206A-1, 206B, and 206B-1 helicopters, within 60 days, perform a continuity test and repair the Eaton Tedeco chip detector (chip detector), part number (P/N) B3188B, installed in the transmission bottom case, in accordance with the “Test Procedure”, Procedure B, and the “Repair Instructions” portions of the Tedeco Products Alert Service attached to Bell Helicopter Textron (BHTC) Alert Service Bulletin (ASB) No. 206-01-96, Revision A, dated May 7, 2001.

(b) For 206L, 206L-1, 206L-3, and 206L-4 helicopters:

(1) Within 60 days, perform a continuity test on, and also repair, the chip detector, P/N B3188B, installed in the transmission bottom case found on transmission assemblies, P/N 206-040-004-003, 206-040-004-005, 206-040-004-101, 206-040-004-107, 206-040-004-111, or 206-040-004-115, in accordance with the “Test Procedure”, Procedure B, and the “Repair Instructions” portions of the Tedeco Products Alert Service Bulletin for affected P/N B3188B chip detectors, attached to BHTC ASB No. 206L-01-119, Revision A, dated May 7, 2001.

(2) Within 60 days, perform a continuity test and repair the chip detector, P/N B4093, installed in the transmission top case found on transmission assemblies, P/N 206-040-004-003, 206-040-004-005, 206-040-004-101, or 206-040-004-111, in accordance with the “Test Procedure”, Procedure B, and the “Repair Instructions” portion of the Tedeco Products Alert Service Bulletin for the affected P/N B4093 chip detectors, attached to BHTC ASB No. 206L-01-119, Revision A, dated May 7, 2001.

(c) Within 300 hours time-in-service (TIS) after any chip detector is repaired, replace the chip detector with a reworked or new production airworthy chip detector.

(d) An alternative method of compliance or adjustment of the compliance time that provides an acceptable level of safety may be used if approved by the Manager, Safety Management Group, Rotorcraft Directorate, FAA. Operators shall submit their requests through an FAA Principal Maintenance Inspector, who may concur or comment and then send it to the Manager, Safety Management Group.

Note 2: Information concerning the existence of approved alternative methods of compliance with this AD, if any, may be obtained from the Safety Management Group.

(e) Special flight permits will not be issued.

(f) Testing, repairing, and replacing chip detectors shall be done in accordance with Bell Helicopter Textron Canada Alert Service Bulletins No. 206-01-96, Revision A, and No. 206L-01-119, Revision A, both dated May 7, 2001. The Director of the Federal Register approved this incorporation by reference in accordance with 5 U.S.C. 552(a) and 1 CFR part 51. Copies may be obtained from Bell Helicopter Textron Canada, 12,800 Rue de l'Avenir, Mirabel, Quebec J7J1R4. Copies may be inspected at the FAA, Office of the Regional Counsel, Southwest Region, 2601 Meacham Blvd., Room 663, Fort Worth, Texas; or at the Office of the Federal Register, 800 North Capitol Street, NW., suite 700, Washington, DC.

(g) This amendment becomes effective on August 12, 2003.

Note 3: The subject of this AD is addressed in Transport Canada (Canada) AD No. CF-2001-33, dated August 24, 2001.

Issued in Fort Worth, Texas, on June 23, 2003.
David A. Downey,
Manager, Rotorcraft Directorate, Aircraft Certification Service.

[FR Doc. 03-16686 Filed 7-7-03; 8:45 am]

BILLING CODE 4910-13-P